DEPARTMENT OF HOUSING AND URBAN DEVELOPMENT

[Docket No. FR-4904-N-07]

Notice of Proposed Information Collection: Comment Request Disaster Recovery Grant Reporting System

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: June 28, 2004.

ADDRESSES: Interested persons are invited to submit comments regarding this proposal. Comments should refer to the proposal by name and/or OMB Control Number and should be sent to: Shelia Jones, Reports Liaison Officer, Department of Housing and Urban Development, 451 7th Street, SW., Room 7232, Washington, DC 20410.

FOR FURTHER INFORMATION CONTACT: Jan Opper, Senior Program Officer, Office of Block Grant Assistance, Office of Community Planning and Development, U.S. Department of Housing and Urban Development, 451 7th Street, SW., Washington, DC 20410; telephone number: (202) 708-3587, ext. 4538 (this is not a toll-free number).

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Disaster Recovery Grant Reporting System.

OMB Control Number, if applicable: 2506-0165.

Description of the need for the information and proposed use: HUD needs to collect information with Disaster Recovery Grant Reporting System to comply with quarterly Congressional reporting requirements with respect to the use of Community Development Block Grant (CDBG) funds awarded under several appropriations for disaster recovery assistance and for other related program management purposes. Use of this system for reporting purposes is mandatory. Once submitted to HUD, information is public.

Agency form numbers, if applicable: N/A.

Estimation of the total numbers of hours needed to prepare the Information Collection: 10960 hours.

Estimated number of respondents: 82 respondents.

Frequency of response: quarterly.

Hours for response annually per respondent: 128 for 80 respondents; 360 for 2 respondents.

Status of the proposed information collection: Extension of a currently approved collection.

Authority: The Paperwork Reduction Act of 1995, 44 U.S.C. Chapter 35, as amended.

Dated: April 20, 2004.
Roy Bernardi,
Assistant Secretary for Community Planning and Development.

[FR Doc. 04-9537 Filed 4-26-04; 8:45 am]

BILLING CODE 4210-29-M